DEPARTMENT OF HOUSING AND URBAN DEVELOPMENT

[Docket No. FR-5946-N-03]

Notice of Regulatory Waiver Requests Granted for the Third Quarter of Calendar Year 2016

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2016, and ending on September 30, 2016.

FOR FURTHER INFORMATION CONTACT: For general information about this notice, contact Ariel Pereira, Associate General Counsel for Legislation and Regulations, Department of Housing and Urban Development, 451 7th Street SW., Room 10282, Washington, DC 20410-0500, telephone 202-708-3055 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2016.

SUPPLEMENTARY INFORMATION:

Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2016 through September 30, 2016. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2016) before the next report is published (the fourth quarter of calendar year 2016), HUD will include any additional waivers granted for the third quarter in the next report.

Accordingly, information about approved waiver requests pertaining to HUD regulations is provided in the Appendix that follows this notice.

Dated: December 1, 2016.
Tonya T. Robinson,
Acting General Counsel.

Appendix

Listing of Waivers of Regulatory Requirements Granted by Offices of the Department of Housing and Urban Development July 1, 2016 Through September 30, 2016

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Fair Housing and Equal Opportunity

III. Regulatory Waivers Granted by the Office of Housing

IV. Regulatory Waivers Granted by the Office of Public and Indian Housing

I. Regulatory Waivers Granted by the Office of Community Planning and Development

For further information about the following regulatory waivers, please see the name of the contact person that immediately follows the description of the waiver granted.

• Regulation: 24 CFR 58.22(a).

Project/Activity: The Lombardi Project is a residential and retail mixed-use project at 371 North Avenue in New Rochelle, New York.

Nature of Requirement: Funds may not be spent prior to the completion of the environmental review process to avoid choice-limiting actions. The regulation allows for a waiver of that requirement if the grantee can demonstrate good cause and no harm.

Granted By: Harriet Tregoning, Principal Deputy Assistant Secretary for Community Planning & Development.

Date Granted: July 6, 2016.

Reason Waived: The grantee met the regulatory requirements for the waiver and demonstrated good cause for its granting.

Contact: James M. Potter, Environmental Planning Division, Community Planning and Development, Department of Housing and Urban Development, 451 7th Street SW., Room 7212, Washington, DC 20410, telephone (202) 402 4610.

• Regulation: 24 CFR 58.22.

Project/Activity: Former Phenix Elementary School, City of West Des Moines, Iowa.

Nature of Requirement: The regulation provides that “Neither a recipient nor any participant in the development process, including public or private nonprofit or for-profit entities, or any of their contractors, may commit HUD assistance under [the State CDBG-DR grant program] on an activity or project until HUD or the state has approved the recipient's Request for Release of Funds (RROF) and the related certification from the responsible entity. In addition, until the RROF and the related certification have been approved, neither a recipient nor any participant in the development process may commit non-HUD funds on or undertake an activity or project under [the State CDBG-DR grant program] if the activity or project would have an adverse environmental impact or limit the choice of reasonable alternatives.” In this situation, the City, as grant recipient, committed non-HUD funds to acquire real property, the former Phenix Elementary school property, subsequent to the award of a State CDBG-DR grant but prior to the City receiving an approved Request for Release of Funds and Certification (RROF) from the State.

Granted By: Harriet Tregoning, Principal Deputy Assistant Secretary for Community Planning & Development.

Date Granted: August 9, 2016.

Reason Waived: The violation is regulatory in nature, not statutory. Implementation of the proposed project is consistent with HUD's mission and will advance HUD program goals related to community development, economic development and support of the city's affordable housing supply. The project will benefit the community by preserving a historic landmark, the Phenix Elementary School. The City has agreed to change its processes and procedures and to build its internal capacity to ensure future violations do not occur. Granting a waiver should not result in an unmitigated adverse environmental impact provided the City implements the conditions associated with the waiver approval.

Contact: Paul F. Mohr, Regional Environmental Officer, Community Planning and Development, Department of Housing and Urban Development, 400 State Avenue, Room 200, Kansas City, KS 66101, telephone (913) 551 5818.

• Regulation: 24 CFR 92.500(d)(1)(C)—HOME Expenditure Requirement.

Project/Activity: The Commonwealth of Puerto Rico requested a waiver of 24 CFR 92.500(d)(1)(C), which requires that a participating jurisdiction expend its annual allocation of HOME funds within five years after HUD notifies the participating jurisdiction that HUD has executed the jurisdiction's HOME Investment Partnership Agreement. The Commonwealth requested this waiver to provide it additional time to expend $380,798 of HOME funds.

Nature of Requirement: The regulation at 24 CFR 92.500(d)(1)(C) requires HUD to reduce or recapture any HOME funds in a participating jurisdiction's HOME Investment Trust Fund that are not expended within five years of HUD's notification to the participating jurisdiction that HUD has executed the HOME grant agreement. The Commonwealth failed to disburse $380,798 of HOME funds by its expenditure deadline of July 31, 2016.

Granted By: Harriet Tregoning, Principal Deputy Assistant Secretary for Community Planning & Development.

Date Granted: August 22, 2016.

Reason Waived: The Commonwealth repaid $5,126,234.53 to its local HOME account with non-federal funds to resolve HUD OIG audit findings that it expended HOME funds for ineligible purposes. While the Commonwealth made significant progress by disbursing over $25 million in HOME funds between August 1, 2015 and July 31, 2016, the size and timing of the repayments did not afford it sufficient time to identify new projects for the entire amount of repaid funds. HUD granted the waiver to permit the Commonwealth additional time to expend funds on new affordable housing projects for low-income residents.

Contact: Virginia Sardone, Director, Office of Affordable Housing Programs, Community Planning and Development, Department of Housing and Urban Development, 451 7th Street SW., Room 7164, Washington, DC 20410, telephone (202) 708-2684.

• Regulation: 24 CFR 91.15(a)(2)—Consolidated Plan Requirements.

Project/Activity: American Samoa, the Commonwealth of Puerto Rico, and the states of Arkansas, California, New Hampshire, and Texas requested a waiver of 24 CFR 91.15(a)(2) of the regulation, which requires each grantee to submit its Housing Trust Fund (HTF) allocation plan to HUD no later than August 16, 2016. The grantees requested this waiver to provide additional time to develop their HTF allocation plans and conduct the required citizen participation process.

Nature of Requirement: As a condition of receiving funding, each HTF grantee is required to submit an HTF allocation plan to HUD, the requirements of which are incorporated into the consolidated plan regulations under 24 CFR part 91. The provisions at 24 CFR 91.15(a)(2) require that each grantee submit its HTF allocation plan to HUD no later than August 16, 2016.

Granted By: Harriet Tregoning, Principal Deputy Assistant Secretary for Community Planning & Development.

Date Granted: September 6, 2016.

Reason Waived: FY 2016 is the first year in which funding is being made available for the HTF program. HUD published CPD Notice 16-07 Guidance for HTF Grantees on Fiscal Year 2016 Housing Trust Fund (HTF) Allocation Plans on April 28, 2016, and the HTF allocation amounts in the Federal Register on May 5, 2016. Because some grantees did not have sufficient time to develop their HTF allocation plans and conduct the required citizen participation process, HUD waived the August 16, 2016 deadline and extended the deadline for submission of 2016 HTF allocation plans as follows:

Grantee Name | New Deadline
American Samoa | August 31, 2016.
Commonwealth of Puerto Rico | November 14, 2016.
State of Arkansas | September 30, 2016.
State of California | September 30, 2016.
State of New Hampshire | September 14, 2016.
State of Texas | October 17, 2016.

Contact: Virginia Sardone, Director, Office of Affordable Housing Programs, Community Planning and Development, Department of Housing and Urban Development, 451 7th Street SW., Room 7164, Washington, DC 20410, telephone (202) 708-2684.

II. Regulatory Waivers Granted by Office of Fair Housing and Equal Opportunity

For further information about the following regulatory waivers, please see the name of the contact person that immediately follows the description of the waiver granted.

• Regulation: 24 CFR 115.305(a).

Project/Activity: Fair Housing Assistance Program (FHAP); 2016 Enforcement Fund.

Nature of Requirement: 24 CFR 115.305(a) allows grants of Special Enforcement Efforts (SEE) funds to participants in the Fair Housing Assistance Program, but limits the award to 20 percent of the participant's total FHAP cooperative agreement for the previous contract year.

Granted By: Assistant Secretary Gustavo Velazquez.

Date Granted: April 29, 2016.

Reason Waived: The waiver allows FHEO to provide certain FHAP agencies with SEE funds above the amount set forth in the regulation in order to support ongoing, protracted, or complex litigation associated with the enforcement of their substantially equivalent fair housing laws.

Contact: Joseph A. Pelletier, Director, Fair Housing Assistance Program, Fair Housing Equal Opportunity, Department of Housing and Urban Development, 451 7th Street SW., Room 5206, Washington, DC, 20410, telephone (202) 402-2126.

III. Regulatory Waivers Granted by the Office of Housing—Federal Housing Administration (FHA)

For further information about the following regulatory waivers, please see the name of the contact person that immediately follows the description of the waiver granted.

• Regulation: 24 CFR 200.73(c).

Project/Activity: R.H. Floyd Memorial Apartments, FHA Project Number 061-1352, Summerville, Georgia. The City of Summerville, GA received a Commitment to Enter into Housing Assistance Payments Contract (CHAP) to convert its entire public housing unit inventory to project based Section 8 rental housing. The lender, Bellwether Enterprise is seeking FHA financing to renovate the 223 units.

Nature of Requirement: The 24 CFR part 200.73(c) which, states that a site must contain no less than 5 rental dwelling units. Section 3.1.CC of the MAP Guide permits a project with two or noncontiguous parcels of land when the parcels comprise one marketable, manageable real estate entity.

Granted By: Edward L. Golding, Principal Deputy Assistant Secretary for Housing.

Date Granted: July 5, 2016.

Reason Waived: The waiver was granted to allow the City of Summerville, GA to convert its entire public housing unit inventory to project based Section 8 rental housing. Six of the parcels have less than the minimum of five required units. Since the remaining 17 parcels are in compliance, the intent of 24CFR 200.73(c) is essentially fulfilled.

Contact: Daniel J. Sullivan, Acting Director, Office of Multifamily Production, Office of Housing, Department of Housing and Urban Development, 451 7th Street SW., Room 6134, Washington, DC 20410, telephone (202) 402-6130.

• Regulation: 24 CFR 200.73(c).

Project/Activity: The Heritage Village Apartments, FHA Project Number 042-35702, Toledo, Ohio. The subject property was initially developed and insured under Section 221(d)(4) of the National Housing Act under the project name of Vistula Heritage Village. The property has a project-based Section 8 HAP contract that covers all 250 units and consists of 21 separate parcels of which all but seven have more than five units per site.

Nature of Requirement: The 24 CFR part 200.73(c) which, states that a site must contain no less than 5 rental dwelling units. Section 3.1.O.l.CC of the MAP Guide permits a project with two or more contiguous parcels of land when the parcels comprise one marketable, manageable real estate entity.

Granted By: Edward L. Golding, Principal Deputy Assistant Secretary for Housing.

Date Granted: July 22, 2016.

Reason Waived: The waiver was granted to allow much needed preservation in an historic section of Toledo. The property has been managed as one project since inception; therefore, the intent of 24 CFR 200.73(c) is essentially fulfilled. The waiver allows Heritage Village Apartments to preserve and maintain affordable rental housing for low income families

Contact: Daniel J. Sullivan, Acting Director, Office of Multifamily Production, Office of Housing, Department of Housing and Urban Development, 451 7th Street SW., Room 6134, Washington, DC 20410, telephone (202) 402-6130.

• Regulation: 24 CFR 219.220(b).

Project/Activity: Golden Spike Apartments, FHA Project Number 101-44026, Denver, Colorado. Colorado Veteran and Retired Railroaders, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: July 7, 2016.

Reason Waived: The owner requested and was granted a waiver of the requirement to repay the Flexible Subsidy Operating Assistance Loan in full when it became due. Deferring the loan payment will preserve this affordable housing resource for an additional 20 years through the execution and recordation of a Rental Use Agreement.

Contact: Marilyn Carlson, Senior Account Executive, Office of Housing, Department of Housing and Urban Development, 451 7th Street SW., Room 6156, Washington, DC 20410, telephone (202) 402-4744.

• Regulation: 24 CFR 219.220(b).

Project/Activity: Cumberland Court Apartments, FHA Project Number 075-44039T, Oshkosh, Wisconsin. Cumberland Court Housing Commission, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing.

Date Granted: July 26, 2016.

Reason Waived: The owner requested and was granted a waiver of the requirement to repay the Flexible Subsidy Operating Assistance Loan in full when it became due. Deferring the loan payment will preserve this affordable housing resource for an additional 20 years through the execution and recordation of a Rental Use Agreement.

Contact: Valencia Hare, Senior Account Executive, Office of Housing, Department of Housing and Urban Development, 451 7th Street SW., Room 6180, Washington, DC 20410, telephone (202) 402-6103.

• Regulation: 24 CFR 219.220(b)

Project/Activity: Golden Spike Apartments, FHA Project Number 101-44026, Denver, Colorado. Colorado Veteran and Retired Railroaders, Incorporated (Owner) seeks approval to defer repayment of the Flexible Subsidy Operating Assistance Loan on the subject project.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing, H

Date Granted: July 7, 2016

Reason Waived: The owner requested and was granted a waiver of the requirement to repay the Flexible Subsidy Operating Assistance Loan in full when it became due. Deferring the loan payment will preserve this affordable housing resource for an additional 20 years through the execution and recordation of a Rental Use Agreement.

Contact: Marilyn Carlson, Senior Account Executive, Department of Housing and Urban Development, 451 7th Street SW., Washington, DC 20410-8000, telephone: (202) 402-4744.

• Regulation: 24 CFR 219.220(b).

Project/Activity: Manchester Knolls Cooperative and Manchester Knolls II Cooperative, FHA Project Numbers 071-44073 and 071-44075, North Chicago, Illinois. Manchester Knolls Cooperative, Incorporated (owner) seeks approval to defer repayment of the Flexible Subsidy Operating Assistance Loans on the subject projects.

Nature of Requirement: The regulation at 24 CFR 219.220(b) (1995), which governs the repayment of operating assistance provided under the Flexible Subsidy Program for Troubled Properties, states “Assistance that has been paid to a project owner under this subpart must be repaid at the earlier of the expiration of the term of the mortgage, termination of mortgage insurance, prepayment of the mortgage, or a sale of the project.”

Granted by: Edward L. Golding, Principal Deputy Assistant Secretary for Housing, H.

Date Granted: September 14, 2016.

Reason Waived: The owner requested and was granted a waiver of the requirement to repay the Flexible Subsidy Operating Assistance Loans in full when they became due. Deferring the loan payments will preserve these affordable housing resources for an additional 35 years through the execution and recordation of a Rental Use Agreement.

Contact: Crystal Martinez, Senior Account Executive, Office of Housing, Department of Housing and Urban Development, 451 7th Street SW., Room 6174, Washington, DC 20410, telephone (202) 402-3718.

• Regulation: 24 CFR 232.7.

Project/Activity: CountryHouse of Grand Island is a memory care facility. The facility does not meet the requirements of 24 CFR 232.7 “Bathroom” of FHA's regulations. The project is located in Grand Island, NE.

Nature of Requirement: The regulation at 24 CFR 232.7 mandates in a board and care home or assisted living facility that not less than one full bathroom must be provided for every four residents. Also, the bathroom cannot be accessed from a public corridor or area.

Granted By: Edward L. Golding, Principal Deputy Assistant Secretary for Housing.

Date Granted: August 25, 2016.

Reason Waived: The project is for memory care, all rooms have half-bathrooms and the ratio of residents to full bathroom rooms is 6.75/1. The memory care residents need assistance with bathing. The project meets the State of Nebraska's licensing requirements for bathing and toileting facilities.

Contact: Vance T. Morris, Operations Manager, Office of Healthcare Programs, Office of Housing, Department of Housing and Urban Development, 451 7th Street SW., Room 2337, Washington, DC 20401, telephone (202) 402-2419.

• Regulation: 24 CFR 232.7.

Project/Activity: Devonshire Retirement Village is a memory care facility. The facility does not meet the requirements of 24 CFR 232.7 “Bathroom” of FHA's regulations. The project is located in Lapeer, MI.

Nature of Requirement: The regulation at 24 CFR 232.7 mandates in a board and care home or assisted living facility that not less than one full bathroom must be provided for every four residents. Also, the bathroom cannot be accessed from a public corridor or area.

Granted By: Edward L. Golding, Principal Deputy Assistant Secretary for Housing.

Date Granted: September 21, 2016.

Reason Waived: The project is for memory care, all rooms have half-bathrooms and the ratio of residents to full bathroom rooms is 7:1. The memory care residents need assistance with bathing. The project meets the State of Michigan's licensing requirements for bathing and toileting facilities.

Contact: Vance T. Morris, Operations Manager, Office of Healthcare Programs, Office of Housing, Department of Housing and Urban Development, 451 7th Street SW., Room 2337, Washington, DC 20401, telephone (202) 402-2419.

• Regulation: 24 CFR 232.7.

Project/Activity: White Pines of Fridley is a memory care facility. The facility does not meet the requirements of 24 CFR 232.7 “Bathroom” of FHA's regulations. The project is located in Fridley, MN.

Nature of Requirement: The regulation at 24 CFR 232.7 mandates in a board and care home or assisted living facility that not less than one full bathroom must be provided for every four residents. Also, the bathroom cannot be accessed from a public corridor or area.

Granted By: Edward L. Golding, Principal Deputy Assistant Secretary for Housing.

Date Granted: September 27, 2016.

Reason Waived: The project is for memory care, all rooms have half-bathrooms and the ratio of residents to full bathroom rooms is 7:1. The memory care residents need assistance with bathing. The project meets the State of Minnesota's licensing requirements for bathing and toileting facilities.

Contact: Vance T. Morris, Operations Manager, Office of Healthcare Programs, Office of Housing, Department of Housing and Urban Development, 451 7th Street SW., Room 2337, Washington, DC 20401, telephone (202) 402-2419.

• Regulation: 24 CFR 232.1005.

Project/Activity: Stygler Commons and Portage Trail Village are two existing Section 202 projects that received Assisted Living Conversion Program grants to convert the projects to assisted living facilities. All operating licenses and accounts receivable associated with revenue generated as a result of the care provided at these two projects were pledged as collateral for a bond issuances used the finance the projects. The projects are located in Gahanna and Cuyahoga Falls, Ohio.

Nature of Requirement: The regulation at 24 CFR 232.1005 mandates that all accounts deriving from the operation of the property, including operator accounts and including all funds received from any source or derived from the operation of the facility, are project assets subject to control under the insured mortgage loan's transactional documents, including, without limitation, the operator's regulatory agreement.

Granted By: Edward L. Golding, Principal Deputy Assistant Secretary for Housing.

Date Granted: September 21, 2016.

Reason Waived: The waiver of the requirement, in part, is required to allow the projects to refinance. The bond trustee agreed to release the licenses associated with the projects from the collateral securing the bond obligation. However, all accounts receivable associated with the revenue generated as a result of the care provided continue to secure the bond obligation. All other accounts will be pledged in accordance with the Department's requirements. The service provider for the two projects agreed to provide a corporate guarantee to guarantee both loans.

Contact: Vance T. Morris, Operations Manager, Office of Healthcare Programs, Office of Housing, Department of Housing and Urban Development, 451 7th Street SW., Room 2337, Washington, DC 20401, telephone (202) 402-2419.

• Regulation: 24 CFR 242.21.

Project/Activity: LRGHealthcare (LRG) is a not-for-profit 501(c)(3) organization that operates two facilities in New Hampshire: Lakes Region General Hospital, a 137-bed Sole Community Hospital in Laconia, NH, and Franklin Regional Hospital, a 25-bed acute care critical access hospital that has a 10-bed psychiatric receiving facility, in Franklin, NH.

Nature of Requirement: The regulation mandates that application fees accompanying Section 242 applications cannot be refunded, in whole or in part.

Granted By: Edward L. Golding, Principal Deputy Assistant Secretary for Housing.

Date Granted: August 3, 2016.

Reason Waived: KeyBanc Capital Markets, Inc., on behalf of LRG, submitted an application (and an application fee in the amount of $204,635.50) for a Section 223(f) loan in May 2015. After a brief review of the application, the Office of Hospital Facilities (OHF) determined that the application could not be approved. Instead, the Lender submitted a request for an interest rate reduction, which reduced the interest rate from 6.38% to 3.7%. This financing closed in September 2015. Typically application fees are collected to offset the resources expended to process an application, but HUD expended no resources in evaluating LRG's application. The refund will help improve LRG's cash position.

Contact: Shelley M. McCracken-Rania, Senior Financial Analyst, Office of Healthcare Programs, Office of Housing, Department of Housing and Urban Development, 451 7th Street SW., Room 2247, Washington, DC 20410, telephone (202) 402-5366.

• Regulation: 24 CFR 266.200(c)(2).

Project/Activity: Federal Financing Bank (FFB) Risk Sharing Initiative, Equity Take-Out, Rhode Island Housing Mortgage Corporation (Rhode Island Housing).

Nature of Requirement: 24 CFR 266.200(c)(2) HUD's regulation at 24 CFR 266.200(c)(2) allows existing projects to be refinanced if certain criteria are met. If the property is subject to an HFA financed loan to be refinanced and such refinancing will result in the preservation of affordable housing, refinancing of these properties is permissible if project occupancy is not less than 93 percent (to include consideration of rent in arrears), based on the average occupancy in the project over the most recent 12 months, and the mortgage does not exceed an amount supportable by the lower of the unit rents being collected under the rental assistance agreement or the unit rents being collected at unassisted projects in the market area that are similar in amenities and location to the project for which insurance is being requested. The HUD-insured mortgage may not exceed the sum of the existing indebtedness, cost of refinancing, the cost of repairs and reasonable transaction costs as determined by the Commissioner. If a loan to be refinanced has been in default within the 12 months prior to application for refinancing, the HFA must assume not less than 50 percent of the risk.

Equity take-outs for existing projects (refinance transactions): Permit the insured mortgage to exceed the sum of the total cost of acquisition, cost of financing, cost of repairs, and reasonable transaction costs or “equity take-outs” in refinances of HFA-financed projects and those outside of HFA's portfolio if the result is preservation with the following conditions:

1. Occupancy is no less than 93% for previous 12 months;

2. No defaults in the last 12 months of the HFA loan to be refinanced;

3. A 20-year affordable housing deed restriction placed on title that conforms to the 542(c) statutory definition;

4. A Property Capital Needs Assessment (PCNA) must be performed and funds escrowed for all necessary repairs, and reserves funded for future capital needs; and

5. For projects subsidized by Section 8 Housing Assistance Payment (HAP) contracts: Owner agrees to renew HAP contract(s) for 20-year term, (subject to appropriations and statutory authorization, etc.,), and existing and post-refinance HAP residual receipts are set aside to be used to reduce future HAP payments.

Granted by: Edward L. Golding, Principal Deputy Assistant Secretary for Housing.

Date Granted: September 6, 2016.

Reason Waived: Necessary to effectuate the Federal Financing Bank (FFB) Risk Sharing Initiative between Housing and Urban Development and the Treasury Department/FFB announced in Fiscal Year 2014. The waivers are consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Daniel J. Sullivan, Acting Director, Office of Multifamily Production, Office of Housing, Department of Housing and Urban Development, 451 7th Street SW., Room 6134, Washington, DC, 20410, telephone (202) 402-6130.

• Regulation: 24 CFR 290.30(a).

Project/Activity: Eastern Parkway Apartments, FHA Project Number 012-57049 V and W, Brooklyn, New York. Eastern Parkway HAP Associates, L.P. (Owner) seeks approval to waive the non-competitive sale of two HUD-held multifamily mortgages.

Nature of Requirement: The regulation at 24 CFR 290.30(a), which governs the sale of HUD-held mortgages, states that “[e]xcept as otherwise provided in Section 290.31(a)(2), HUD will sell HUD-held multifamily mortgages on a competitive basis.”

Granted by: Edward L. Golding, Principal Deputy Assistant Secretary for Housing.

Date Granted: September 14, 2016.

Reason Waived: The owner requested and was granted a waiver of the non-competitive sale of two HUD-held multifamily mortgages. A waiver allows the Department to assign the mortgages to the owner's new mortgagee to avoid paying mortgage recording tax in the State of New York.

Contact: Susanna Oyewole, Account Executive, Office of Housing, Department of Housing and Urban Development, 451 7th Street SW., Room 6168, Washington, DC 20410, telephone (202) 402-6080.

• Regulation: 24 CFR 891.165.

Project/Activity: Victoria at COMM22, San Diego, CA, Project Number: 129-EE036/CA33-S101-001.

Nature of Requirement: Section 891.165 provides that the duration of the fund reservation of the capital advance is 18-months from the date of issuance with limited exceptions up to 36 months, as approved by HUD on a case-by-case basis.

Granted By: Edward L. Golding, Principal Deputy Assistant Secretary for Housing.

Date Granted: September 13, 2016.

Reason Waived: Additional time was needed to meet other requirements of the State of California and time for the tax credit investor to review and approve the loan documents.

Contact: Alicia Anderson, Branch Chief, Grants and New Funding, Office of Housing, Department of Housing and Urban Development, 451 7th Street SW., Room 6138, Washington, DC 20410, telephone (202) 402-5787.

IV. Regulatory Waivers Granted by the Office of Public and Indian Housing

For further information about the following regulatory waivers, please see the name of the contact person that immediately follows the description of the waiver granted.

• Regulation: 24 CFR 5.801(c)(1) and 24 CFR 5.801(d)(1).

Project/Activity: Brown County North East Kansas Community Action Program (KS168).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: July 21, 2016.

Reason Waived: Brown County North Kansas Community Action Program, NEK-CAP (HA), a Section 8 only entity, requested an extension to submit its audited financial data for the fiscal year end (FYE) of September 30, 2015, to align with its Housing Choice Voucher (HCV) program. The HCV program fiscal year end change was granted on December 4, 2015. The additional time would permit the auditor necessary time to compile and complete NEK-CAP's required audited financial data submission to the Department.

This FASS audited financial submission waiver (extension) does not apply to Single Audit submissions to the Federal Audit Clearinghouse; the HA is required to meet the Single Audit due date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 902.25.

Project/Activity: Rayville Housing Authority (LA105).

Nature of Requirement: Physical inspections are required to ensure that public housing units are decent, safe, sanitary and in good repair, as determined by an inspection conducted in accordance with HUD's Uniform Physical Condition Standards (UPCS). Baseline inspections will have all properties inspected regardless of previous PHAS designation or physical inspection scores.

Granted By: Lourdes Castro Ramírez, Principal Deputy Assistant Secretary for Public and Indian Housing.

Date Partially Granted: July 11, 2016.

Reason Waived: Rayville Housing Authority (HA), requested to be waived from all physical inspections and physical condition scoring of property/units for its fiscal year end (FYE) of September 30, 2016.

Pursuant to 24 CFR 5.110, the HA was granted a partial waiver for good cause of the PHAS and physical inspection score for its FYE September 30, 2016. The HA was advised that the inspection results will be for informational purposes and would not serve as the inspection of record. The HA was also advised that September 30, 2017, would be the baseline year to determine its eligibility for Small PHA Deregulation and that a new inspection would be required upon that date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 902.25.

Project/Activity: Bogalusa Housing Authority (LA024).

Nature of Requirement: Physical inspections are required to ensure that public housing units are decent, safe, sanitary and in good repair, as determined by an inspection conducted in accordance with HUD's Uniform Physical Condition Standards (UPCS). Baseline inspections will have all properties inspected regardless of previous PHAS designation or physical inspection scores.

Granted By: Lourdes Castro Ramírez, Principal Deputy Assistant Secretary for Public and Indian Housing.

Date Partially Granted: August 9, 2016.

Reason Waived: Bogalusa Housing Authority (HA), requested to be waived from all physical inspections and physical condition scoring of property/units for its fiscal year end (FYE) of September 30, 2016.

Pursuant to 24 CFR 5.110, the HA was granted a partial waiver for good cause of the PHAS and physical inspection score for its FYE September 30, 2016. The HA was advised that the inspection results will be for informational purposes and would not serve as the inspection of record. The HA was also advised that September 30, 2017, would be the baseline year to determine its eligibility for Small PHA Deregulation and that a new inspection would be required upon that date.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 982.251(c).

Project/Activity: Department of Housing and Community Development in Boston, Massachusetts requested a waiver of 24 CFR 982.251(c) so that HUD-Veterans Affairs Supportive Housing (VASH) families do not have to be placed on the agency's waiting list for HUD-VASH project-based voucher (PBV) assistance.

Nature of Requirement: 24 CFR 982.251(c) states that a PHA shall select families to receive PBV assistance from its waiting list.

Granted By: Lourdes Castro Ramírez, Principal Deputy Assistant Secretary for Public and Indian Housing.

Date Granted: July 29, 2016.

Reason Waived: This regulation was waived so that the VA could refer families to a new veterans' facility in Bedford, Massachusetts without placing their names on a waiting list. Having to use a waiting list for PBV assistance could delay housing these veterans. In addition, HUD-VASH families are not placed on a waiting list for tenant-based voucher assistance.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.251(c).

Project/Activity: Brockton Housing Authority in Brockton, Massachusetts, requested a waiver of 24 CFR 982.251(c) so that HUD-Veterans Affairs Supportive Housing (VASH) families do not have to be placed on the agency's waiting list for HUD-VASH project-based voucher (PBV) assistance.

Nature of Requirement: 24 CFR 982.251(c) states that a PHA shall select families to receive PBV assistance from its waiting list.

Granted By: Lourdes Castro Ramírez, Principal Deputy Assistant Secretary for Public and Indian Housing.

Date Granted: September 19, 2016.

Reason Waived: This regulation was waived so that the VA could refer families to a new veterans' facility on the grounds of the Brockton VA Medical Center in Brockton, Massachusetts without placing their names on a waiting list. Having to use a waiting list for PBV assistance could delay housing these veterans. In addition, HUD-VASH families are not placed on a waiting list for tenant-based voucher assistance.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.503(c).

Project/Activity: Howard County Housing Commission (HCHC) in Columbia, Maryland, requested a waiver of 24 CFR 982.503(c) so that it could receive approval for exception payment standards at 135 percent of the fair market rents.

Nature of Requirement: This regulation requires certain conditions prior to the approval of area-wide exception payment standards which the HCHC did not meet.

Granted By: Lourdes Castro Ramírez, Principal Deputy Assistant Secretary for Public and Indian Housing.

Date Granted: August 19, 2016.

Reason Waived: This waiver was granted because in 2016 the separate FMRs for Columbia were eliminated and combined with the FMRs for the Baltimore Metropolitan Statistical Area which will result in an increase in family rents after the tenant protection is eliminated.

Contact: Becky Primeaux, Director, Housing Voucher Management and Operations Division, Office of Public Housing and Voucher Programs, Office of Public and Indian Housing, Department of Housing and Urban Development, 451 7th Street SW., Room 4216, Washington, DC 20410, telephone (202) 708-0477.

• Regulations: 24 CFR 982.503(c)(4)(ii), 982.503(c)(5) and 982.503(c)(3)(i)(B).

Project/Activity: Housing Authority of the City of Lake Charles in Lake Charles, Louisiana, requested a waiver of these regulations so that it could receive approval for exception payment standards at 135 percent of the fair market rents (FMR).

Nature of Requirement: These regulations require: (1) A six-month wait until payment standards could go above the basic range; (2) exception payment standards could not include more than 50 percent of the FMR area; and (3) approval must be supported by statistically representative rental housing survey data.

Granted By: Lourdes Castro Ramírez, Principal Deputy Assistant Secretary for Public and Indian Housing.

Date Granted: September 19, 2016.

Reason Waived: These waivers were granted because of a shock to the rental housing market caused by increased economic activity in the FMR area due to the expansion of the petrochemical industry. These corporations leased hundreds of units that were previously available for voucher participants.

Contact: Becky Primeaux, Director, Housing Voucher Management and Operations Division, Office of Public Housing and Voucher Programs, Office of Public and Indian Housing, Department of Housing and Urban Development, 451 7th Street SW., Room 4216, Washington, DC 20410, telephone (202) 708-0477.

• Regulation: 24 CFR 982.503(e)(1).

Project/Activity: Housing Works in Redmond, Oregon, requested a waiver of 24 CFR 982.505(e)(1) to enable the housing authority to adopt success rate payment standards.

Nature of Requirement: 24 CFR 982.505(e)(1) states that a public housing agency (PHA) may obtain HUD Field Office approval of success rate payment standard amounts provided the PHA demonstrates that is has established payment standard amounts for all unit sizes in the entire PHA's jurisdiction with the fair market rent (FMR) area at 110 percent of the published FMR for at least the six-month period prior to the time the request for success rate payment standards is made to HUD.

Granted By: Lourdes Castro Ramírez, Principal Deputy Assistant Secretary for Public and Indian Housing.

Date Granted: August 9, 2016.

Reason Waived: One of the counties in the FMR area did not warrant success rate payment standards as the non-success rate payment standards were adequate in that county.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(c)(4).

Project/Activity: Vallejo Housing Authority in Vallejo, California, requested a waiver of 24 CFR 982.505(c)(4) so that it could approve an exception payment standard amount above 120 percent of the fair market rents (FMR) as a reasonable accommodation.

Nature of Requirement: 24 CFR 982.505(c)(4) states that if the payment standard amount is increased during the term of the housing assistance payment contract, the increased payment standard shall be used to calculate the monthly housing assistance payment for the family beginning at the effective date of the family's first regular reexamination on or after the effect date of the increase in the payment standard amount.

Granted By: Lourdes Castro Ramírez, Principal Deputy Assistant Secretary for Public and Indian Housing.

Date Granted: July 25, 2016.

Reason Waived: This regulation was waived as a reasonable accommodation to allow a disabled participant to receive housing assistance and pay no more than 40 percent of its adjusted income toward the family share subsequent to the owner's rent increase prior to the annual recertification.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Francisco Housing Authority in San Francisco, California, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: July 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: San Francisco Housing Authority in San Francisco, California, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: July 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Housing Authority of the County of Los Angeles in Alhambra, California, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: July 20, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202)708-0477.

• Regulation: 24 CFR 982.505(d).

Project/Activity: Housing Authority of Douglas County in Roseburg, Oregon, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: July 21, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Bellingham Whatcom County Housing Authorities in Bellingham, Washington, requested a waiver of 24 CFR 982.505(d) so that it could approve an exception payment standard amount above 120 percent of the fair market rents (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: July 25, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Vallejo Housing Authority in Vallejo, California, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: August 9, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Arvada Housing Authority in Arvada, California, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: August 19, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Ithaca Housing Authority in Ithaca, New York, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: September 19, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 982.505(d).

Project/Activity: Boston Housing Authority in Boston, Massachusetts, requested a waiver of 24 CFR 982.505(d) so that it could approve an exception payment standard amount above 120 percent of the fair market rent (FMR) as a reasonable accommodation.

Nature of Requirement: 24 CFR 982.505(d) states that a public housing agency may only approve a higher payment standard for a family as a reasonable accommodation if the higher payment standard is no more than 120 percent of the FMR for the unit size.

Granted By: Lourdes Castro Ramírez, Principal Deputy Assistant Secretary for Public and Indian Housing.

Date Granted: September 30, 2016.

Reason Waived: This regulation was waived as a reasonable accommodation to allow a disabled participant to receive housing assistance and pay no more than 40 percent of its adjusted income toward the family share.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: The Flint Housing Commission (FHC) in Flint, Michigan, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: September 19, 2016.

Reason Waived: This waiver was granted for the FHC's fiscal year ending August 29, 2016. The waiver was approved because of circumstances beyond the PHA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 985.101(a).

Project/Activity: Tallahassee Housing Authority (THA) in Tallahassee, Florida, requested a waiver of 24 CFR 985.101(a) so that it could submit its Section Eight Management Assessment Program (SEMAP) certification after the deadline.

Nature of Requirement: 24 CFR 985.101(a) states a PHA must submit the HUD-required SEMAP certification form within 60 calendar days after the end of its fiscal year.

Granted By: Lourdes Castro Ramírez, Principal Deputy Assistant Secretary for Public and Indian Housing.

Date Granted: September 28, 2016.

Reason Waived: This waiver was granted for the THA's fiscal year ending August 29, 2016. The waiver was approved because of circumstances beyond the THA's control and to prevent additional administrative burdens for the PHA and field office.

Contact: Becky Primeaux, Housing Voucher Management and Operations Division, Office of Public Housing and Voucher Programs, Office of Public and Indian Housing, Department of Housing and Urban Development, 451 7th Street SW., Room 4216, Washington, DC 20410, telephone (202) 708-0477.

• Regulation: 24 CFR 1000.224.

Project/Activity: Quechan Housing Authority, Winterhaven, CA 92283.

Nature of Requirement: HUD has the general authority under Section 101(b)(2) of NAHASDA to waive any IHP requirement when an Indian Tribe cannot comply with IHP requirements due to exigent circumstances beyond its control, for a period of not more than 90 days.

Granted By: Lourdes Castro Ramírez, Principal Deputy Assistant Secretary for Public and Indian Housing.

Date Granted: July 14, 2016.

Reason Waived: A waiver was requested and granted to extend the due date for Quechan Housing Authority's 2017 Indian Housing Plan because of exigent circumstances in order to provide flexibility to address the needs of the Indian Tribe.

Contact: Deborah Apsey, GM Specialist, Office of Public and Indian Housing, Department of Housing and Urban Development, 1 North Central Avenue, Suite 600, Phoenix, Arizona 85004, telephone (602) 379-7217.

• Regulation: 24 CFR 1006.410(a)(2).

Project/Activity: Native Hawaiian Housing Block Grant Program Annual Performance Report (APR) Honolulu, Hawaii.

Nature of Requirement: Each fiscal year the Department of Hawaiian Home Lands (DHHL) must submit a performance report to HUD within 60 days of the end of DHHL's fiscal year.

Granted By: Lourdes Castro Ramírez, Principal Deputy Assistant Secretary for Public and Indian Housing.

Date Granted: September 19, 2016.

Reason Waived: DHHL was granted a 30-day extension to the due date to complete the subrecipient monitoring and allow public comment on the APR.

Contact: Claudine Allen, Program Specialist, Office of Public and Indian Housing, Department of Housing and Urban Development, 1132 Bishop Street, Suite 1400, Honolulu, HI 96813, telephone (808) 457-4674.

[FR Doc. 2016-29354 Filed 12-6-16; 8:45 am]

BILLING CODE 4210-67-P